ENVIRONMENTAL PROTECTION AGENCY

[FRL-7219-8]

Agency Information Collection Activities: Submission for OMB Review; Comment Request; Modification of Secondary Treatment Requirements for Discharges Into Marine Waters

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Modification of Secondary Treatment Requirements for Discharges into Marine Waters, EPA ICR Number 0138.07, OMB Control Number 2040-0088, expiring July 31, 2002. The ICR describes the nature of the information collection and its expected burden and cost; where appropriate, it includes the actual data collection instrument.

DATES: Comments must be submitted on or before June 28, 2002.

FOR FURTHER INFORMATION: Contact Susan Auby at EPA by phone at (202) 566-1672, by email at auby.susan@epa.gov, or download a copy of the ICR off the Internet at http://www.epa.gov/icr and refer to EPA ICR No. 0138.07.

SUPPLEMENTARY INFORMATION: Title: Modification of Secondary Treatment Requirements for Discharges into Marine Waters (EPA ICR Number 0138.07; OMB Control Number 2040-0088) expiring July 31, 2002. This is a request for extension of a currently approved collection.

Abstract: The Clean Water Act (CWA) 301(h) program involves collecting information from two sources: (1) The municipal wastewater treatment facility, commonly called a publicly owned treatment works(POTW); and (2) the State in which the POTW is located. Municipalities had the opportunity to apply for a waiver from secondary treatment requirements, but that opportunity closed in December 1982. A POTW seeking to obtain a 301(h) waiver, holding a current waiver, or reapplying for a waiver, provides application, monitoring, and toxic control program information. The State provides information on its determination whether the proposed conditions of the waiver ensure the protection of water quality, biological habitats, and beneficial uses of receiving waters, and whether the discharge will result in additional treatment, pollution control, or any other requirement for any other point or nonpoint sources. The State also provides information to certify that the discharge will meet all applicable State laws and that the State accepts all permit conditions.

EPA requires updated information on the discharge to: (1) Determine whether the section 301(h) criteria are still being met and whether the section 301(h) waiver should be reissued; (2) determine whether the water quality, biological habitats, and beneficial uses of the receiving waters are protected; and (3) ensure that the permittee is effectively minimizing industrial and nonindustrial toxic pollutant and pesticide discharges into the treatment works. EPA needs information from the State to: (1) Allow the State's views to be taken into account when EPA reviews the section 301(h) application and develops permit conditions; and (2) ensure that all State laws are met and that the State accepts all permit conditions. This information is the means by which the State can non-concur with a section 301(h) approval decision made by the EPA Regional office. Responses to the collection of information are required to obtain or retain a benefit. Regulations implementing CWA section 301(h) are found at 40 CFR part 125, subpart G. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information, was published on January 3, 2002 (67 FR 71245); no comments were received.

Burden Statement: The annual public reporting and recordkeeping burden for this collection of information is estimated to average 667 hours per response for POTWs and 86 hours per response for States. The average annual reporting burden varies depending on the size of the respondent and the category of the information collection. There are 6 categories of information collection in this ICR renewal. The frequency of response varies from 1 time to once every 5 years, to case-by-case, as the individual permit specifies, depending on the category. Burden means the total time, effort, or financial resources expended by persons to generate, maintain, retain, or disclose or provide information to or for a Federal agency. This includes the time needed to review instructions, develop, acquire, install, and utilize technology and systems for the purposes of collecting, validating, and verifying information, processing and maintaining information, and disclosing and providing information; adjust the existing ways to comply with any previously applicable instructions and requirements; train personnel to be able to respond to a collection of information; search data sources; complete and review the collection of information, and transmit or otherwise disclose the information.

Respondents/Affected Entities: Municipalities with publicly owned treatment works (POTW) that currently have section 301(h) waivers from secondary treatment, who have applied for a renewal of a section 301(h) waiver, or have a pending section 301(h) waiver, and the States within which these municipalities are located.

Estimated Number of Respondents: 51.

Frequency of Response: Varies from 1 time to once every 5 years, to case-by-case, depending on the category of information collection.

Estimated Total Annual Hour Burden: 65,057 hours.

Estimated Total Annualized Cost Burden (capital/startup and O&M costs only): $0.

Send comments on the Agency's need for this information, the accuracy of the provided burden estimates, and any suggested methods for minimizing respondent burden, including through the use of automated collection techniques to the following addresses. Please refer to EPA ICR No. 0138.07 and OMB Control No. 2040-0088 in any correspondence.

Ms. Susan Auby, U.S. Environmental Protection Agency, Office of Information Collection, Collection Strategies Division (2822T), 1200 Pennsylvania Avenue, NW., Washington, DC 20460; and

Office of Information and Regulatory Affairs, Office of Management and Budget, Attention: Desk Officer for EPA, 725 17th Street, NW., Washington, DC 20503

Dated: May 21, 2002.
Oscar Morales,
Director, Collection Strategies Division.

[FR Doc. 02-13346 Filed 5-28-02; 8:45 am]

BILLING CODE 6560-50-P